ENVIRONMENTAL PROTECTION AGENCY

[EPA-HQ-OPPT-2003-0004; FRL-11755-01-OCSPP]

Access to Confidential Business Information by Avanti Corporation

AGENCY: Environmental Protection Agency (EPA).

ACTION: Notice.

SUMMARY: EPA has authorized its contractor Avanti Corporation (Avanti) of Alexandria, VA, to access information which has been submitted to EPA under all sections of the Toxic Substances Control Act (TSCA). Some of the information may be claimed or determined to be Confidential Business Information (CBI).

DATES: Access to the confidential data will occur no sooner than March 4, 2024.

ADDRESSES: Submit your comments, identified by docket identification (ID) number EPA-HQ-OPPT-2003-0004, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: Colby Lintner/Adam Schwoerer, Program Management and Operations Division (7407M), Office of Pollution Prevention and Toxics, Environmental Protection Agency, 1200 Pennsylvania Ave. NW, Washington, DC 20460-0001; telephone number: (202) 564-8182; email address: lintner.colby@epa.gov or (202) 564-4767; schwoerer.adam@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004 is available at https://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at https://www.epa.gov/dockets.

II. What action is the Agency taking?

Under contract number 47QRAA20D002D, task order number 68HERC24F0042, contractor Avanti of 5695 King Center Drive, Suite 301; Alexandria, VA 22301 will assist the Office of Pollution Prevention and Toxics (OPPT) by providing administrative and technical support to the TSCA New Chemicals Program utilizing EPA CBI databases and software to create documents, databases, attend meetings, previewing CBI claims, transferring sanitized documents from the CBI LAN to ADMIN and transfer non-CBI files to the CBI LAN for special projects.

In accordance with 40 CFR 2.306(j), EPA has determined that under EPA contract number 47QRAA20D002D, task order number 68HERC21F0042, Avanti will require access to CBI submitted under all sections of TSCA. EPA has determined that Avanti will need access to TSCA CBI submitted to EPA under Sections 5, 8 and 12 of TSCA to perform successfully the duties specified under the contract. Avanti's personnel will be given access to information claimed or determined to be CBI information submitted to EPA under all sections of TSCA.

EPA is issuing this notice to inform all submitters of information under all sections of TSCA that EPA will provide Avanti access to these CBI materials on a need-to-know basis only. All access to TSCA CBI under this contract will take place at EPA Headquarters, in accordance with EPA's TSCA CBI Protection Manual.

Access to TSCA data, including CBI, will continue until October 31, 2026. If the contract is extended, this access will also continue for the duration of the extended contract without further notice.

Avanti's personnel will be required to sign nondisclosure agreements and will be briefed on specific security procedures for TSCA CBI.

Authority: 15 U.S.C. 2601 et seq.

Dated: February 20, 2024.
Pamela Myrick,
Director, Project Management and Operations Division, Office of Pollution Prevention and Toxics.

[FR Doc. 2024-03812 Filed 2-23-24; 8:45 am]

BILLING CODE 6560-50-P